DEPARTMENT OF THE INTERIOR

Bureau of Land Management

[LLAK-963000-L1410000- ET0000; AA-80005]

Notice of Application for Proposed Withdrawal Extension and Opportunity for Public Meeting; Alaska

AGENCY: Bureau of Land Management, Interior.

ACTION: Notice.

SUMMARY: The United States Forest Service (USFS) has filed an application with the Bureau of Land Management (BLM) requesting the Secretary of the Interior to extend the duration of Public Land Order (PLO) No. 7393 for an additional 15-year term. PLO No. 7393 withdrew approximately 600 acres of National Forest System land from location and entry under the United States mining laws, to aid in making high quality rock and gravel from the Spencer Glacier Material Site available to nearby communities for private and public works projects. The withdrawal created by PLO No. 7393 will expire on May 27, 2014, unless it is extended. This notice also gives an opportunity to comment on the application and to request a public meeting.

DATES: Comments and requests for a public meeting must be received by September 4, 2012.

ADDRESSES: Comments and meeting requests should be sent to the Alaska State Director, BLM Alaska State Office, 222 West Seventh Avenue, No. 13, Anchorage, Alaska 99513-7504.

FOR FURTHER INFORMATION CONTACT: Mark Fullmer, BLM Alaska State Office, 907-271-5699 or at the address above. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The USFS has filed an application requesting that the Secretary of the Interior extend PLO No. 7393 (64 FR 29064 (1999)), which withdrew 600 acres of National Forest System land in the Chugach National Forest from location and entry under the United States mining laws, for an additional 15-year term, subject to valid existing rights. PLO No. 7393 is incorporated herein by reference.

The purpose of the proposed withdrawal extension is to continue the protection of the USFS Spencer Glacier Material Site in order to make high quality rock and gravel available to nearby communities for private and public works projects.

A complete description, along with all other records pertaining to the extension, can be examined in the BLM Alaska State Office at the address shown above.

As extended, the withdrawal would not alter the applicability of those public land laws governing the use of land under lease, license, or permit or governing the disposal of the mineral or vegetative resources other than under the mining laws.

The use of a right-of-way or interagency or cooperative agreement would not adequately protect the Federal interest in the Spencer Glacier Material Site.

No water rights would be needed to fulfill the purpose of the requested withdrawal extension.

For a period until September 4, 2012, all persons who wish to submit comments, suggestions, or objections in connection with the proposed withdrawal extension may present their views in writing to the BLM Alaska State Director at the address indicated above. Before including your address, phone number, email address, or other personal identifying information in your comment, you should be aware that your entire comment—including your personal identifying information—may be made publicly available at any time. While you can ask us in your comment to withhold your personal identifying information from public review, we cannot guarantee that we will be able to do so.

Notice is hereby given that an opportunity for a public meeting is afforded in connection with the proposed withdrawal extension. All interested parties who desire a public meeting for the purpose of being heard on the proposed withdrawal extension must submit a written request to the BLM Alaska State Director at the address indicated above by September 4, 2012. Upon determination by the authorized officer that a public meeting will be held, a notice of the time and place will be published in the Federal Register and a local newspaper at least 30 days before the scheduled date of the meeting.

The withdrawal extension application will be processed in accordance with the regulations set forth in 43 CFR 2310.4 and subject to Section 810 of the Alaska National Interest Lands Conservation Act (16 U.S.C. 3120).

Authority: 43 CFR 2310.3-1(b).

Mark Fullmer,
Acting Chief, Branch of Lands and Realty.

[FR Doc. 2012-13665 Filed 6-4-12; 8:45 am]

BILLING CODE 1410-JA-P